DEPARTMENT OF TRANSPORTATION

Federal Transit Administration

FY 2011 Discretionary Livability Funding Opportunity; Section 5309 Bus and Bus Facilities Livability Initiative Program Grants and Section 5339 Alternatives Analysis Program

AGENCY: Federal Transit Administration (FTA), DOT.

ACTION: Notice of Availability of FTA Livability Funding Opportunity Program Funds: Solicitation of Project Proposals.

SUMMARY: The Federal Transit Administration (FTA) announces the availability of discretionary funds in Fiscal Year (FY) 2011 for two programs in support of the Department of Transportation's (DOT) Livability Initiative: the Bus and Bus Facilities grant funds (49 U.S.C. 5309(b)) (“Bus Livability Program”) and the Alternatives Analysis Program (49 U.S.C. 5339), both authorized by the Safe, Accountable, Flexible, Efficient, Transportation Equity Act: A legacy for Users (SAFETEA-LU), Pub. L. 109-59, August 10, 2005. The Bus Livability Program will be funded using at least $150 million in available FY 2011 Discretionary Bus and Bus Facilities Program funds. The Alternatives Analysis program will be funded using up to $25 million in FY 2010 and FY2011 discretionary funds. These discretionary program funds will be distributed in accordance with the mission of each program and in support of the U.S. DOT's Livability Initiative and the Partnership for Sustainable Communities between the U.S. DOT, the U.S. Department of Housing and Urban Development (HUD), and the U.S. Environmental Protection Agency (EPA). Please note that this notice is one of several discretionary funding opportunities that FTA intends to issue by early Fall 2011. This notice includes priorities established by FTA for these discretionary funds, the criteria FTA will use to identify meritorious projects for funding, and describes how to apply for funding under each discretionary program. This announcement is available on the FTA Web site at: http://www.fta.dot.gov. FTA will announce final selections for each program on the Web site and in the Federal Register. Additionally, a synopsis of each funding opportunity will be posted in the FIND module of the government-wide electronic grants Web site at http://www.grants.gov.

DATES: Complete proposals for both the Bus Livability Program and the Alternatives Analysis Program must be submitted by July 29, 2011. All proposals must be submitted electronically through the GRANTS.GOV APPLY function. Agencies should initiate the process of registering on the GRANTS.GOV site immediately to ensure completion of registration before the submission deadline. Registration is a multi-step process, which may take several weeks to complete before an application can be submitted.

FOR FURTHER INFORMATION CONTACT:

Bus Livability Program

Contact the appropriate FTA Regional Administrator (Appendix A) for proposal-specific information and issues. For general program information, contact Bryce McNitt, Office of Budget and Policy, (202) 366-2618, e-mail bryce.mcnitt@dot.gov. A TDD is available at 1-800-877-8339 (TDD/FIRS).

Alternatives Analysis Program

For general program information, contact Kenneth Cervenka, Office of Planning and Environment, (202) 493-0512, e-mail Kenneth.Cervenka@dot.gov. A TDD is available at 1-800-877-8339 (TDD/FIRS).

SUPPLEMENTARY INFORMATION:

Table of Contents

I. DOT Livability Initiative

A. Authority

B. Policy Priority

II. Livability Program Information

A. Bus Livability Program

1. Description

2. Award Information

3. Eligibility Information

4. Application and Submission Information

5. Application Review, Selection, and Notification

6. Award Administration

7. Agency Contacts

B. Alternatives Analysis Program

1. Description

2. Award Information

3. Eligibility Information

4. Application and Submission Information

5. Application Review, Selection and Notification

6. Award Administration

7. Agency Contacts

Appendix A FTA Regional Offices

Appendix B Notice of Other Funding Opportunities

I. DOT Livability Initiative Overview

A. Authority:

Bus Livability

The program is authorized under 49 U.S.C. 5309(b) as amended by Section 3011 of SAFETEA-LU.

“The Secretary may make grants under this section to assist State and local governmental authorities in financing— * * *

(3) capital projects to replace, rehabilitate, and purchase buses and related equipment and to construct bus-related facilities, including programs of bus and bus-related projects for assistance to subrecipients that are public agencies, private companies engaged in public transportation, or private non-profit organizations.”

Alternatives Analysis

The program is authorized under the Alternatives Analysis Program (49 U.S.C. 5339) of SAFETEA-LU, Public Law 109-59, August 10, 2005.

“* * * The Secretary may award grants to States, authorities of the States, metropolitan planning organizations, and local governmental authorities to develop alternatives analyses as defined by section 5309(a)(1). 5309(a)(1) “* * * a study conducted as part of the transportation planning process required under sections 5303 and 5304 * * *”

B. Policy Priority

FTA has long fostered livable communities and sustainable development through its various transit programs and activities. Public transportation supports the development of communities, providing effective and reliable transportation options that increase access to jobs, recreation, health and social services, entertainment, educational opportunities, and other activities of daily life, while also improving mobility within and among these communities. Through various initiatives and legislative changes over the last fifteen years, FTA has allowed and encouraged projects that help integrate transit into a community through neighborhood improvements and enhancements to transportation facilities or services; make improvements to areas adjacent to public transit facilities that may facilitate mobility needs of transit users; or support other infrastructure investments that enhance the use of transit and other transportation options for the community.

On June 16, 2009, U.S. Department of Transportation (DOT) Secretary Ray LaHood, U.S. Department of Housing and Urban Development (HUD) Secretary Shaun Donovan, and U.S. Environmental Protection Agency (EPA) Administrator Lisa Jackson announced a new partnership to help American families in all communities—rural, suburban and urban—gain better access to affordable housing, more transportation options, and lower transportation costs. DOT, HUD, and EPA created this high-level interagency partnership to better coordinate federal transportation, environmental protection, and housing investments.

At least $150 million in unallocated Section 5309 Bus and Bus Facilities Program funds are available under this notice. In addition, FTA will use up to $25 million in Alternatives Analysis Program funds to further support the Livability Initiative. By using these available funds, FTA and DOT can support tangible livability improvements within existing programs while demonstrating the feasibility and value of such improvements. These demonstrations can provide a sound basis for advancing greater investments in the future. In addition, the program builds on the momentum generated by the investments made through the FY 2010 Partnership for Sustainable Communities, including FTA's FY 2010 Bus Livability and Alternatives Analysis grant programs, and funding provided through the American Recovery and Reinvestment Act of 2009.

This notice represents one of the several discretionary grant funding opportunities to be announced by FTA this fiscal year. This notice identifies opportunities for funding under the Department of Transportation's livable communities strategic goal. It is expected that FTA will announce other discretionary funding opportunities no later than early Fall 2011 to support efforts related to transit state of good repair, clean fuels and greenhouse gas/energy reduction, transit in parks and public lands, tribal transit, and over-the-road bus efforts. (See Appendix B).

C. Principles

Both the Bus Livability and the Alternatives Analysis programs will invest in projects that fulfill the following six livability principles that serve as the foundation for the DOT-HUD-EPA Partnership for Sustainable Communities:

1. Provide more transportation choices: Develop safe, reliable, and economical transportation choices to decrease household transportation costs, reduce our nation's dependence on foreign oil, improve air quality, reduce greenhouse gas emissions and promote public health.

2. Promote equitable, affordable housing: Expand location- and energy-efficient housing choices for people of all ages, incomes, races and ethnicities to increase mobility and lower the combined cost of housing and transportation.

3. Enhance economic competitiveness: Improve economic competitiveness through reliable and timely access to employment centers, educational opportunities, services and other basic needs by workers as well as expanded business access to markets.

4. Support existing communities: Target federal funding toward existing communities—through such strategies as transit-oriented, mixed-use development and land recycling—to increase community revitalization, improve the efficiency of public works investments, and safeguard rural landscapes.

5. Coordinate policies and leverage investment: Align policies and funding to remove barriers to collaboration, leverage funding and increase the accountability and effectiveness of all levels of government to plan for future growth, including making smart energy choices such as locally generated renewable energy.

6. Value communities and neighborhoods: Enhance the unique characteristics of all communities by investing in healthy, safe and walkable neighborhoods—rural, urban or suburban.

FTA will also consider geographic distribution in project selection.

II. Livability Program Information

Bus Livability Program

1. Description

The Bus Livability Program will be funded using at least $150 million in available discretionary Bus and Bus Facilities Program funds, authorized by 49 U.S.C. 5309(b) of the Safe, Accountable, Flexible, Efficient, Transportation Equity Act: A Legacy for Users (SAFETEA-LU), Pub. L. 109-59, August 10, 2005. FTA may use additional Bus and Bus Facilities funding that becomes available to further support this initiative.

The Bus Livability Program makes funds available to public transportation providers to finance capital projects to replace, rehabilitate, and purchase buses and related equipment and to construct bus-related facilities, including programs of bus and bus-related projects for assistance to subrecipients that are public agencies, private companies engaged in public transportation, or private non-profit organizations. This notice includes priorities established by FTA for these discretionary funds, the criteria FTA will use to identify meritorious projects for funding, and describes how to apply.

Improving mobility and shaping America's future by ensuring that the transportation system is accessible, integrated, and efficient, while offering flexibility of choices is a key strategic goal of the DOT. FTA is committed to creating livable communities that improve the quality of life for all Americans. Public transportation provides transportation options that connect communities and fosters sustainability and the development of urban and rural land use. Through Bus Livability Program grants, FTA will invest in projects that fulfill the six livability principles that serve as the foundation for the DOT-HUD-EPA Partnership for Sustainable Communities listed in section I, Part C of this NOFA (above).

FTA will evaluate proposals and assess a project's ability to advance local economic development goals, improve mobility for all citizens, create partnerships that result in the integration of transportation and land-use decision making and result in environmental benefits. Additionally, many rural areas are fighting to preserve their way of life by limiting urban sprawl and protecting valuable agricultural lands. Often these communities have seen jobs and businesses leave for larger communities and need assistance preserving and reinvigorating the traditional rural town center where locals can visit the grocery store, doctor, hardware store, family restaurant and town hall in easy walking distance of one another. FTA is committed to funding a mix of projects that include projects that demonstrate livability principles in rural areas including projects that provide access to jobs, medical services and other necessities in rural areas and that support the independence of elderly citizens and individuals with disabilities.

2. Award Information

Federal transit funds are available to State or Local governmental authorities as recipients and other public transportation providers as subrecipients at up to 80 percent of the project cost requires a 20% local match. There is no floor or ceiling for any single grant under this program; however, FTA intends to fund as many meritorious projects as possible.

Consistent with 49 U.S.C. 5309(m)(8), the Secretary shall consider the age and condition of buses, bus fleets, related equipment, and bus-related facilities of applicants in its award of Bus Livability grants. And, in addition, FTA will consider geographical diversity in making final funding decisions.

3. Eligibility Information

A. Eligible Applicants

Eligible applicants under this program are direct recipients of funds provided under the Section 5307 Urbanized Area Formula program (“Direct Recipients”), as well as States and Indian tribes. Proposals for funding eligible projects in rural (nonurbanized) areas must be submitted as part of a consolidated State application with the exception of nonurbanized projects to Indian tribes. Tribes, States, and Direct Recipients may also submit consolidated proposals for projects in urbanized areas.

Proposals may include projects to be implemented by the applicant as a “Recipient” or as one or more partners (“subrecipients”). Eligible subrecipients include public agencies, private non-profit organizations, and private providers engaged in public transportation.

B. Eligible Expenses

SAFETEA-LU grants authority to the Secretary to make grants to assist State and local governmental authorities in financing capital projects to replace, rehabilitate, and purchase buses and related equipment and to construct bus-related facilities, including programs of bus and bus-related projects for assistance to subrecipients that are public agencies, private companies engaged in public transportation, or private non-profit organizations.

Projects eligible for funding under the Bus Livability program are capital projects such as:

Purchase and rehabilitation of buses and vans, bus-related equipment (including ITS, fare equipment, communication devices), construction and rehabilitation of bus-related facilities (including administrative, maintenance, transfer, and intermodal facilities, including facilities consistent with FTA's Joint Development and Bike/Pedestrian policies which are available at http://www.fta.dot.gov/livability). As part of the program, FTA will prioritize the replacement and rehabilitation of intermodal facilities that support the connection of bus service with multiple modes of transportation such as: Rail, ferry, intercity bus and private transportation providers. In order to be eligible for funding, intermodal facilities must have adjacent connectivity with bus service.

Funds made available under this program may not be used to fund operating expenses, preventive maintenance, or any other expanded capital eligibility items (for example, security drills, debt service reserve, mobility management). Funds also may not be used to reimburse projects that have incurred previous expenses absent evidence that FTA issued a Letter of No Prejudice (LONP) for the project before the costs were incurred. There is no blanket pre-award authority for projects to be funded under this announcement before their identification in the Federal Register of selected projects.

C. Cost Sharing

Costs will be shared at the following ratio: 80 percent FTA/20 percent local contribution, unless the grantee requests a lower Federal share. FTA will not approve deferred local share under this program.

The Federal share may exceed 80 percent for certain projects related to the Americans with Disabilities Act (ADA), the Clean Air Act (CAA) and bicycle facilities (sec. 5319) as follows: ADA—The Federal share is 90 percent for the cost of vehicle-related equipment or facilities attributable to compliance with the ADA of 1990 (42 U.S.C. 12101 et seq.); CAA—The Federal share is 90 percent for the cost of vehicle-related equipment or facilities (including clean fuel or alternative-fuel vehicle-related equipment or facilities) attributable to compliance with the CAA (42 U.S.C. 7401 et seq.). For administrative simplicity, FTA allows recipients to compute the Federal share at 83 percent for eligible ADA and CAA vehicle purchases.

The FY 2011 Appropriations Act allows a 90 percent Federal share for the total cost of a biodiesel bus. The Act also allows a 90 percent Federal share for the net capital cost of factory installed or retrofitted hybrid electric propulsion systems and any equipment related to such a system. For administrative simplicity, FTA allows recipients to compute the Federal share at 83 percent for eligible vehicle purchases.

4. Application and Submission Information

A. Proposal Submission Process

Project proposal must be submitted electronically through http://www.grants.gov. In addition to the mandatory SF 424 Form that must be downloaded from GRANTS.GOV, FTA requires applicants to complete the Supplemental FTA Form to enter descriptive and data elements of individual program proposals for these discretionary programs. These supplemental forms provide guidance and a consistent format for applicants to respond to the criteria outlined in this Notice of Funding Availability (NOFA). The Supplemental Form can be found on the program Web site at http://www.fta.dot.gov/bus. Applicants must use this Supplemental Form and attach it to their submission in GRANTS.GOV to successfully complete the application process. Within 24-48 hours after submitting an electronic application, the applicant should receive an e-mail validation message from GRANTS.GOV. The validation will state whether GRANTS.GOV found any issues with the submitted application. As an additional notification, FTA's system will notify the applicant if there are any problems with the submitted Supplemental FTA Form. If making a resubmission for any reason, include all original attachments regardless of which attachments were updated. Complete instructions on the application process can be found at http://www.fta.dot.gov/bus and will also be available in the “FIND” module of GRANTS.GOV. Important: FTA urges applicants to submit their applications at least 72 hours prior to the due date to allow time to receive the validation message and to correct any problems that may have caused the application to be rejected.

An applicant may propose a project that would take more than one year to complete, which includes expending a single year of Bus Livability program grant funds over multiple years. The project would, however, need to be ready to begin upon receiving a grant and need to be completed in a reasonable period of time, as evaluated on a case-by-case basis depending on the project type. In sum, the period of performance of the award is separate from the year of funds of the award.

B. Application Content

1. Applicant Information

This provides basic sponsor identifying information, including: (a) Applicant name, and FTA recipient ID number, (b) contact information for notification of project selection (including contact name, title, address, e-mail, fax and phone number, (c) description of services provided by the agency including areas served, (d) existing fleet and employee information, and (e) a description of the agency's technical, legal, and financial capacity to implement the proposed project. For applicants applying through http://www.grants.gov, some of this information is included in Standard Form 424.

2. Project Information

Every proposal must:

a. Describe concisely, but completely, the project scope to be funded. As FTA may elect to only partially fund some project proposals (see below), the scope should be “scalable,” with specific components of independent utility clearly identified.

b. Address each of the evaluation criteria separately, demonstrating how the project responds to each criterion.

c. Provide a line-item budget for the total project, with enough detail to describe the various key components of the project. As FTA may elect to only partially fund some project proposals, the budget should provide for the minimum amount necessary to fund specific project components of independent utility.

d. Provide the Federal amount requested.

e. Document the matching funds, including amount and source of the match, demonstrating strong local or private sector financial participation in the project.

f. Provide support documentation, including audited financial statements, bond-ratings, and documents supporting the commitment of non-federal funding to the project, or a timeframe upon which those commitments would be made.

g. Provide a project time-line, including significant milestones such as the date anticipated to issue a request for proposals for vehicles, or contract for purchase of vehicle(s), and actual or expected delivery date of vehicles, or notice of request for proposal and notice to proceed for capital construction/rehabilitation projects.

C. Submission Dates and Times

Complete proposals for the Bus Livability program must be submitted electronically through the GRANTS.GOV Web site by July 29, 2011. Applicants are encouraged to begin the process of registration on the GRANTS.GOV site well in advance of the submission deadline. Registration is a multi-step process, which may take several weeks to complete before an application can be submitted. In addition to the mandatory SF-424 Form that will be downloaded from GRANTS.GOV, FTA requires applicants to complete the Supplemental FTA Form to enter descriptive and data elements of individual program proposals for the Bus Livability program. This supplemental form provides guidance and a consistent format for applicants to respond to the criteria outlined in this NOFA and can be located on the FTA Web site at http://www.fta.dot.gov/bus. Applicants must use this Supplemental Form and attach it to their submission in GRANTS.GOV to successfully complete the application process. Within 24-48 hours after submitting an electronic application, the applicant should receive an e-mail validation message from GRANTS.GOV. The validation will state whether GRANTS.GOV found any issues with the submitted application. As an additional notification, FTA's system will notify the applicant if there are any problems with the submitted Supplemental FTA Form. If making a resubmission for any reason, include all original attachments regardless of which attachments were updated. Complete instructions on the application process can be found at http://www.fta.dot.gov/bus. Important: FTA urges applicants to submit their applications at least 72 hours prior to the due date to allow time to receive the validation message and to correct any problems that may have caused a rejection notification.

D. Funding Restrictions

Only proposals from eligible recipients for eligible activities will be considered for funding. Due to funding limitations, applicants that are selected for funding may receive less than the amount originally requested.

E. Other Submission Requirements

Applicants should submit three copies of any supplemental information that cannot be submitted electronically to the appropriate regional office. Supplemental information submitted in hardcopy must be postmarked by July 29, 2011.

5. Application Review, Selection, and Notification

A. Project Evaluation Criteria

Projects will be evaluated according to the following criteria. Each applicant is encouraged to demonstrate the responsiveness of a project to any and all of the selection criteria with the most relevant information that the applicant can provide, regardless of whether such information has been specifically requested, or identified, in this notice. FTA will assess the extent to which a project addresses the criteria below and produces a livability or sustainability outcome.

a. Demonstrated Need for Resources: FTA will evaluate each project to determine its need for resources. This determination will be made by examining the proposal to determine if:

i. The project represents a one-time or periodic need that cannot reasonably be funded from FTA program formula allocations or State and/or local revenues.

ii. The project or applicant did not receive sufficient Federal funding in previous years.

iii. The project will have a significant impact on service delivery.

b. Planning and Prioritization at Local/Regional Level: FTA will examine each Bus Livability project proposal for consistency with the areas planning documents and local priorities. This examination will involve assessing whether:

a. The project is consistent with the transit priorities identified in the long-range plan and/or contingency/illustrative projects.

b. The MPO endorses the project, if in a UZA, and the State, if for a rural area.

c. Local support is demonstrated by availability of local match for this and/or related projects and letters of support.

d. Capital projects are consistent with service needs of the area.

i. Example: Vehicle expansion proposal shows evidence of the need for additional capacity.

e. If the project is multimodal in nature, the proposal demonstrates coordination with and support of other transportation modes and partners.

c. Linkage to Livability Principles: Livability investments are projects that deliver not only transportation benefits, but also are designed and planned in such a way that they have a positive impact on qualitative measures of community life. This element delivers benefits that are inherently difficult to measure. However, it is implicit to livability that its benefits are shared and therefore magnified by the number of potential users in the affected community. Therefore, descriptions of how projects enhance livability should include a description of the affected community and the scale of the project's impact. To determine whether a project improves the quality of the living and working environment of a community, FTA will qualitatively assess whether the project:

i. Will significantly enhance user mobility through the creation of more convenient transportation options for travelers;

ii. The degree to which the proposed project contributes significantly to broader traveler mobility through intermodal connections, or improved connections between residential and commercial areas.

iii. Will improve existing transportation choices by enhancing points of modal connectivity or, in urban areas, by reducing congestion on existing transit systems or roadways.

iv. Will improve accessibility and transport services for economically disadvantaged populations, non-drivers, senior citizens, and persons with disabilities.

v. Is the result of a planning process which coordinated transportation and land-use planning decisions and encouraged community participation in the process.

Note: Special consideration may be given to those applicants who serve a community that holds FY 2010 HUD Preferred Sustainability Status. A list of these communities can be found via http://www.hud.gov/sustainability.

d. Linkage to Environmental Sustainability: In order to determine whether a project promotes a more environmentally sustainable transportation system, i.e., reducing reliance on automobile travel, improving the pedestrian and walk environment of a community, use of environmental design techniques in the planning, construction, and operation of the project, FTA will assess the project's ability to:

i. Improve energy efficiency or reduce energy consumption/green house gas emissions; applicants are encouraged to provide information regarding the expected use of clean or alternative sources of energy; projects that demonstrate a projected decrease in the movement of people by less energy-efficient vehicles or systems will be given priority under this factor; and

ii. Maintain, protect or enhance the environment, as evidenced by environmentally friendly policies and practices utilized in the project design, construction, and operation that exceed the requirements of the National Environmental Policy Act including items such as whether the project uses a Leadership in Energy and Environmental Design (LEED)-certified design, the vehicles or facilities are rated with the energy-star, the project re-uses a brownfield, construction equipment is retrofitted with catalytic converters, the project utilizes recycled materials, the project includes elements to conserve energy, such as passive solar heating, solar panels, wind turbines, reflective roofing or paving materials, or other advanced environmental design elements such as a green roof, etc.

e. Leveraging of public and private investments.

i. Jurisdictional and Stakeholder Collaboration: To measure a project's alignment with this criterion, FTA will assess the project's involvement of non-Federal entities and the use of non-Federal funds, including the scope of involvement and share of total funding. FTA will give priority to projects that receive financial commitments from, or otherwise involve, State and local governments, other public entities, or private or nonprofit entities, including projects that engage parties that are not traditionally involved in transportation projects, such as nonprofit community groups or the private owners of real property abutting the project. FTA will assess the amount of co-investment from State, local or other non-profit sources.

ii. Disciplinary Integration: To demonstrate the value of partnerships across government agencies that serve the various public service missions and to promote collaboration of the objectives outlined in this notice, FTA will give priority to projects that are supported, financially or otherwise, by non-transportation public agencies that are pursuing similar objectives. Special consideration will be given to those projects that leverage or provide services that support projects funded under the DOT-HUD-EPA Partnership for Sustainable Communities. For example, FTA will give priority to transportation projects that are supported by relevant public housing or human service agencies, or transportation projects that encourage energy efficiency or improve the environment and are supported by relevant public agencies with energy or environmental missions.

f. The project is ready to implement.

i. Any required environmental work has been initiated for construction projects requiring an Environmental Assessment (EA), Environmental Impact Statement (EIS), or documented Categorical Exclusion (CE).

ii. Implementation plans are ready, including initial design of facilities projects.

iii. TIP/STIP can be amended (evidenced by MPO/State endorsement).

iv. Local share of funding is in place.

v. Project can be obligated and implemented quickly if selected.

vi. The applicant demonstrates the ability to carry out the proposed project successfully.

Note: Applicants must have basic technical, legal, and financial capacity as a precondition of grant award. Since proposals are limited to existing FTA grantees, applicants are assumed to have that basic capacity. This criterion refers to implementation of the particular project proposed.

a. For larger capital projects, the applicant has the technical capacity to administer the project.

b. For fleet replacement and/or expansion, the acquisition is consistent with the bus fleet management plan.

c. For fleet expansion, the applicant has the operating funds to support the expanded service.

d. There are no outstanding legal, technical or financial issues with the grantee that would bring the feasibility of successful project completion into question.

e. Source of 20% local match is identified and is available for prompt project implementation if selected (no deferred local share will be allowed)

f. The grantee is in fundable status for grant-making purposes.

B. Review and Selection Process

Proposals will first be screened and ranked by appropriate FTA staff, in consultation with representatives from HUD and EPA. The FTA Administrator will determine the final selection and amount of funding for each project. Selected projects will be announced in late 2011. FTA will publish the list of all selected projects and funding levels in the Federal Register. Regional offices will also notify successful applicants of their success and the amount of funding awarded to the project.

6. Award Administration

A. Award Notices

FTA will announce project selections in a Federal Register notice and will post the Federal Register Notices on its Web site. FTA regional offices will contact successful applicants. FTA will award grants for the selected projects to the applicant through the FTA electronic grants management and award system, TEAM, after receipt of a complete application in TEAM. These grants will be administered and managed by the FTA regional offices in accordance with the Federal requirements of the Section 5309 bus program. At the time the project selections are announced, FTA will extend pre-award authority for the selected projects. There is no pre-award authority for these projects prior to announcement.

B. Administrative and National Policy Requirements

1. Grant Requirements

If selected, applicants will apply for a grant through TEAM and adhere to the customary FTA grant requirements of the Section 5309 Bus and Bus Facilities program, including those of FTA C 9300.1A Circular and C 5010.1C and S. 5333(b) labor protections. Technical assistance regarding these requirements is available from each FTA regional office.

2. Planning

Applicants are encouraged to notify the appropriate State Departments of Transportation and MPO in areas likely to be served by the project funds made available under this program. Incorporation of funded projects in the long-range plans and transportation improvement programs of States and metropolitan areas is required of all funded projects.

3. Standard Assurances

The Applicant assures that it will comply with all applicable Federal statutes, regulations, executive orders, FTA circulars, and other Federal administrative requirements in carrying out any project supported by the FTA grant. The Applicant acknowledges that it is under a continuing obligation to comply with the terms and conditions of the grant agreement issued for its project with FTA. The Applicant understands that Federal laws, regulations, policies, and administrative practices might be modified from time to time and affect the implementation of the project. The Applicant agrees that the most recent Federal requirements will apply to the project, unless FTA issues a written determination otherwise. The Applicant must submit the Certifications and Assurances before receiving a grant if it does not have current certifications on file.

C. Reporting

Post-award reporting requirements include timely submission of Financial Status Reports and Milestone reports in TEAM on a quarterly basis for all projects. Documentation is required for payment. In addition, grants that include innovative technologies may be required to report on the performance of these technologies.

7. Agency Contacts

Contact the appropriate FTA Regional Administrator (see Appendix A) for proposal-specific information and issues. For general program information, contact Bryce McNitt, (202) 366-2618, e-mail bryce.mcnitt@dot.gov. A TDD is available at 1-800-877-8339 (TDD/FIRS).

B. Alternatives Analysis Program

1. Description

The purpose of the Alternatives Analysis Program (49 U.S.C. 5339) is to assist potential sponsors of New Starts and Small Starts projects in the evaluation of all reasonable modal and multimodal alternatives and general alignment options to address transportation needs in a defined travel corridor. FTA has the authority to implement this program under SAFETEA-LU amendments to 49 U.S.C. 5339. The authorizing legislation allows for the Secretary of Transportation to make awards under this program at his discretion. FTA may allocate up to $25.0 million from FY 2010 and 2011 funds. These funds will be allocated for alternatives analysis activities selected from applications submitted in response to this notice.

As defined in 49 U.S.C. 5309(1)(a), an alternatives analysis is a study conducted as part of the transportation planning process which includes: (1) An assessment of a wide range of public transportation alternatives designed to address a transportation problem in a corridor or subarea; (2) [the development of] sufficient information to enable the Secretary to make the findings of project justification and local financial commitment required under Section 5309; (3) the selection of a locally preferred alternative; and (4) the adoption of the locally preferred alternative as part of the long-range transportation plan required under section 5303. Further information on conducting an alternatives analysis, including descriptions of the documents produced, can be found on FTA's Web site at http://www.fta.dot.gov/planning/newstarts/planning_environment_2396.html.

FTA will award discretionary funding available under Section 5339 to support a limited number of alternatives analyses, or technical work conducted as part of an on-going alternatives analyses, to develop information for local decision-makers and for the Secretary regarding potential New Starts and Small Starts projects. These funds will be awarded for alternatives analysis activities selected from proposals submitted in response to this notice. These funds are not available for systems planning work that leads to the selection of a particular corridor for alternatives analysis, or for work performed after an application is made to enter Preliminary Engineering (New Starts) or Project Development (Small Starts).

2. Award Information

Studies or technical tasks selected for funding will receive up to 80 percent of the study cost. Awards remain available for three fiscal years, including the fiscal year in which the award is made. FTA will not approve requests for deferred local share under this program.

To promote collaboration on the development of major transit capital improvements and to demonstrate the value of partnerships across government agencies that serve various public service missions, FTA will give priority to proposals that are supported, financially or otherwise, by non-transportation public agencies that are pursuing similar objectives and are aligning their community development activities to increase the efficiency of Federal investments.

3. Eligibility Information

A. Eligible Applicants

Section 5339 allows FTA to make grants and agreements, under criteria established by the Secretary, to States, authorities of the States, metropolitan planning organizations, and local governmental authorities to conduct alternatives analyses as defined by section 5309(a)(1).

B. Eligible Projects

Alternatives analyses must be documented in the Unified Planning Work Program (UPWP) of the metropolitan planning organization for the area. Applicants must commit to begin the alternatives analysis within 12 months of grant approval. FTA will award available discretionary funding to eligible applicants to conduct an alternatives analysis or to support additional technical tasks in an alternatives analysis that will improve and expand the information available to decision-makers considering major transit improvements. FTA will consider proposals for all areas of technical work that can better develop information about the costs and benefits of potential major transit improvements, including those that might seek New Starts or Small Starts funding. FTA will give priority to technical work that would advance the study of alternatives that foster the six livability principles that serve as the foundation for the DOT-HUD-EPA Partnership for Sustainable Communities.

4. Application and Submission Information

A. Proposal Submission Process

Complete proposals for the Alternatives Analysis Program must be submitted electronically through the GRANTS.GOV Web site by July 29, 2011. Applicants are encouraged to begin the process of registration on the GRANTS.GOV site well in advance of the submission deadline. Registration is a multi-step process, which may take several weeks to complete before an application can be submitted. In addition to the Mandatory SF 424 Form that will be downloaded from GRANTS.GOV, FTA requires applicants to complete the Supplemental FTA Form to enter descriptive and data elements of individual program proposals for the Alternatives Analysis Program. This supplemental form provides guidance and a consistent format for applicants to respond to the criteria outlined in this NOFA and is described in detail on the FTA Web site at http://www.fta.dot.gov/alternativesanalysis. Applicants must use this Supplemental Form and attach it to their submission in GRANTS.GOV to successfully complete the application process. Within 24-48 hours after submitting an electronic application, the applicant should receive an e-mail validation message from GRANTS.GOV. The validation will state whether GRANTS.GOV found any issues with the submitted application. As an additional notification, FTA's system will notify the applicant if there are any problems with the submitted Supplemental FTA Form. If making a resubmission for any reason, include all original attachments regardless of which attachments were updated. Important: FTA urges applicants to submit their applications at least 72 hours prior to the due date to allow time to receive the validation message and to correct any problems that may have caused a rejection notification. Proposals will not be accepted after the relevant due date; delayed registration is not an acceptable reason for extensions.

B. Application Content

FTA will only evaluate applications that include the following components:

• A completed Standard Form 424 (SF 424), available through GRANTS.GOV;

• A completed Alternatives Analysis Applicant and Proposal Profile, available for download via http://www.fta.dot.gov/alternativesanalysis;

• A detailed work plan by major task that details the nature of and technical approaches to the proposed alternatives analysis; and

• A detailed budget that includes total cost, cost by major task, and indication of which items would be funded with Section 5339 funds and which items would be funded by other sources.

The Applicant and Proposal Profile, work plan and budget must be submitted via GRANTS.GOV as attachments to the SF 424. Applicants may also attach letters of support, corridor maps and other supporting materials, but should not submit further narrative. Applicants must adhere to the Applicant and Proposal Profile's character limits.

Instructions for completing certain fields in Section I of the Applicant and Proposal Profile are provided below:

• Description of Existing Rail Transit Service: If the proposed alternatives analysis would be for an extension of an existing rail transit line, provide a brief description of the service provided and markets along the existing line.

• Brief Description of the Alternatives Analysis: Provide a paragraph about the study stating its goals and providing a brief description of the work plan. This section should also list all the partners involved in the study.

• Contact Information for Other Parties Involved: If another organization will be responsible for completing any component of the work plan, provide a name and contact information for the primary contact with the partner organization.

C. Technical Assistance

If applicants experience unforeseen GRANTS.GOV technical issues beyond their control that prevent the submission of their application by the deadline, the applicant must contact FTA staff at Kenneth.Cervenka@dot.gov within 24 hours after the deadline and request approval to submit the application. At that time, FTA staff will require the applicant to e-mail the complete grant application, their DUNS number, and provide a GRANTS.GOV Help Desk tracking number(s). After FTA staff reviews all of the information submitted as well as contacts the GRANTS.GOV Help Desk to validate the technical issues reported, FTA staff will contact the applicant to either approve or deny its request to submit a late application. If the reported technical issues cannot be validated, the application will be rejected as untimely. To ensure a fair competition for limited discretionary funds, the following conditions are not valid reasons to permit late submissions: (1) Failure to complete the registration process before the deadline date; (2) failure to follow GRANTS.GOV instructions on how to register and apply as posted on its Web site; (3) failure to follow all of the instructions in the funding availability notice; and (4) technical issues experienced with the applicant's computer or information technology (IT) environment.

5. Application, Selection and Notification

A. Project Evaluation Criteria

Awards under this notice could range from $50,000 to up to $2 million in Section 5339 funding. Eligible applicants must be able to begin the alternatives analysis within 12 months of the study being selected for funding if it is not already underway; the proposed alternatives analysis must also be documented in the Unified Planning Work Program of the applicant's MPO. Proposals will be evaluated based on responses to the following criteria in Section II of the Applicant and Proposal Profile:

1. Demonstrated Need for Resources. Applicants must demonstrate need for these funds by identifying a substantial transportation problem in the study corridor and the degree to which the Alternatives Analysis technical work will develop information on the full range of costs and benefits of the major transit capital improvements being studied, including alternatives that may seek New Starts or Small Starts funding. To demonstrate need, applicants should provide the following information:

a. Description of Study Area, Transportation Problems, and Needs. Applicants should provide a description of the study corridor, a statement of the transportation problem for which alternative solutions are to be analyzed and a statement of the need for a public transportation improvement in the corridor. This information provides the context for performing the analysis and for identifying the measures against which alternatives strategies will be evaluated.

b. Description of Conceptual Alternatives. Applicants should provide a conceptual definition of a broad range of strategies for improving conditions in the corridor. For each alternative, the conceptual definition includes the preliminary identification of candidate general alignments and operating strategies, including general ideas of overall bus service levels, service standards, and guideway service options.

c. Preliminary Evaluation Criteria. Applicants should identify the preliminary evaluation criteria that specify, in part, the desired outcomes of an improvement, and provide the basis for comparing the performance of the various alternatives. This should include criteria which would inform decision-makers how an improvement would advance each of the six livability outcomes: provide more transportation choices; promote equitable, affordable housing; enhance economic competitiveness; support existing communities; coordinate policies and leverage investment; and value communities and neighborhoods. Applicants should also outline proposed measures for the livability outcomes.

2. Technical Capacity. Applicants must demonstrate the technical capacity to successfully undertake an analysis of alternatives. Technical capacity may include previous experience on the applicant's or partner organizations' part in completing an alternatives analysis or corridor study. The applicant should also discuss staffing levels, staff skill sets and other resources that will enable it to carry out the proposed work successfully.

3. Potential Impact on Decision-Making. Applicants must demonstrate the potential impact of the proposed tasks on decision-making. FTA will give priority to project sponsors that are coordinating the development of transit projects with relevant public housing agencies, or relevant public agencies with energy or environmental missions.

B. Review and Selection Process

FTA's Office of Planning and Environment staff is available to discuss and clarify expectations regarding these efforts before applicants submit proposals. Proposals will be reviewed and ranked based on the criteria in this notice by FTA headquarters staff in consultation with the appropriate FTA regional office (see Appendix A). Highly qualified proposals will be considered for inclusion in a national list that represents the highest and best use of the available funding. The FTA Administrator will determine the final selection and amount of funding for each study. Selected studies will be announced in Fall 2011. FTA will publish the list of all selected studies and funding levels in the Federal Register.

6. Award Administration

A. Award Notices

FTA will announce project selections in a Federal Register Notice and will post the Federal Register Notices on the web. FTA regional offices will contact successful applicants. FTA will award grants for the selected projects to the applicant through the FTA electronic grants management and award system, TEAM, after receipt of a complete application in TEAM. These grants will be administered and managed by the FTA regional offices in accordance with the federal requirements of the Section 5339 Alternatives Analysis Proram. At the time the project selections are announced, FTA will extend pre-award authority for the selected projects. There is no pre-award authority for these projects prior to announcement.

B. Administrative and National Policy Requirements

1. Grant Requirements

If selected, applicants will apply for a grant through TEAM and adhere to the customary FTA grant requirements of the Section 5339 Alternatives Analysis Program, including those of FTA C 9300.1A Circular and C 5010.1C and S. 5333(b) labor protections. Technical assistance regarding these requirements is available from each FTA regional office.

2. Planning

Applicants are encouraged to notify the appropriate State Departments of Transportation and MPO in areas likely to be served by the project funds made available under this program. Incorporation of funded projects in the long range plans and transportation improvement programs of States and metropolitan areas is required of all funded projects.

3. Standard Assurances

The Applicant assures that it will comply with all applicable Federal statutes, regulations, executive orders, FTA circulars, and other Federal administrative requirements in carrying out any project supported by the FTA grant. The Applicant acknowledges that it is under a continuing obligation to comply with the terms and conditions of the grant agreement issued for its project with FTA. The Applicant understands that Federal laws, regulations, policies, and administrative practices might be modified from time to time and affect the implementation of the project. The Applicant agrees that the most recent Federal requirements will apply to the project, unless FTA issues a written determination otherwise. The Applicant must submit the Certifications and Assurances before receiving a grant if it does not have current certifications on file.

C. Reporting

Post-award reporting requirements include submission of Financial Status Reports and Milestone reports in TEAM on a quarterly basis for all projects. Documentation is required for payment. In addition, grants which include innovative technologies may be required to report on the performance of these technologies.

7. Agency Contacts

For general program information, contact Kenneth Cervenka, Office of Planning and Environment, (202) 493-0512, e-mail Kenneth.Cervenka@dot.gov. A TDD is available at 1-800-877-8339 (TDD/FIRS).

Issued in Washington, DC, this 21st day of June, 2011.
Peter M. Rogoff,
Administrator.

Appendix A

FTA Regional and Metropolitan Offices
Mary Beth Mello Regional Administrator Region 1—Boston Kendall Square 55 Broadway, Suite 920 Cambridge, MA 02142-1093 Tel. 617-494-2055 | Robert C. Patrick Regional Administrator Region 6—Ft. Worth 819 Taylor Street, Room 8A36 Ft. Worth, TX 76102 Tel. 817-978-0550
States served: Connecticut, Maine, Massachusetts, New Hampshire, Rhode Island, and Vermont. | States served: Arkansas, Louisiana, Oklahoma, New Mexico and Texas.
Brigid Hynes-Cherin Regional Administrator Region 2—New York One Bowling Green, Room 429 New York, NY 10004-1415 Tel. 212-668-2170 | Mokhtee Ahmad Regional Administrator Region 7—Kansas City, MO 901 Locust Street, Room 404 Kansas City, MO 64106 Tel. 816-329-3920
States served: New Jersey, New York. | States served: Iowa, Kansas, Missouri, and Nebraska.
New York Metropolitan Office Region 2-New York One Bowling Green, Room 428 New York, NY 10004-1415 Tel. 212-668-2202
Letitia Thompson Regional Administrator Region 3—Philadelphia 1760 Market Street, Suite 500 Philadelphia, PA 19103-4124 Tel. 215-656-7100 | Terry Rosapep Regional Administrator Region 8—Denver 12300 West Dakota Ave., Suite 310 Lakewood, CO 80228-2583 Tel. 720-963-3300
States served: Delaware, Maryland, Pennsylvania, Virginia, West Virginia, and District of Columbia. | States served: Colorado, Montana, North Dakota, South Dakota, Utah, and Wyoming.
Philadelphia Metropolitan Office Region 3—Philadelphia 1760 Market Street, Suite 500 Philadelphia, PA 19103-4124 Tel. 215-656-7070
Washington, D.C. Metropolitan Office 1990 K Street, NW Room 510 Washington, DC 20006 Tel. 202-219-3562
Yvette Taylor Regional Administrator Region 4—Atlanta 230 Peachtree Street, NW Suite 800 Atlanta, GA 30303 Tel. 404-865-5600 | Leslie T. Rogers Regional Administrator Region 9—San Francisco 201 Mission Street, Room 1650 San Francisco, CA 94105-1926 Tel. 415-744-3133
States served: Alabama, Florida, Georgia, Kentucky, Mississippi, North Carolina, Puerto Rico, South Carolina, Tennessee, and Virgin Islands. | States served: American Samoa, Arizona, California, Guam, Hawaii, Nevada, and the Northern Mariana Islands.
| Los Angeles Metropolitan Office Region 9—Los Angeles 888 S. Figueroa Street, Suite 1850 Los Angeles, CA 90017-1850 Tel. 213-202-3952
Marisol Simon Regional Administrator Region 5—Chicago 200 West Adams Street, Suite 320 Chicago, IL 60606 Tel. 312-353-2789 | Rick Krochalis Regional Administrator Region 10—Seattle Jackson Federal Building 915 Second Avenue, Suite 3142 Seattle, WA 98174-1002 Tel. 206-220-7954
States served: Illinois, Indiana, Michigan, Minnesota, Ohio, and Wisconsin. | States served: Alaska, Idaho, Oregon, and Washington.
Chicago Metropolitan Office Region 5-Chicago 200 West Adams Street, Suite 320 Chicago, IL 60606 Tel. 312-353-2789

[FR Doc. 2011-16015 Filed 6-22-11; 4:15 pm]

BILLING CODE 4910-57-P